DEPARTMENT OF AGRICULTURE

Submission for OMB Review; Comment Request

February 25, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Determining Eligibility for Free and Reduced Price Meals and Free Milk, 7 CFR Part 245.

OMB Control Number: 0584-0026.

Summary of Collection: The Richard B. Russell National School Lunch Act (NSLA), as amended, authorizes the National School Lunch Program (NSLP). Section 9, Paragraph 9(b) of the NSLA provides that the income guidelines for determining eligibility for free school meals shall be 130 percent, and reduced price school meals shall be 185 percent, of the applicable family size income level contained in the non-farm income poverty guidelines proscribed by the Office of Management and Budget, as adjusted annually. 7 CFR Part 245, Determining Eligibility for Free and Reduced Price Meals and Free Milk in Schools, sets forth policies and procedures for implementing these provisions. These federal regulations requires schools operating the NSLP to determine children's eligibility for free and reduced-price meals on the basis of each child's household income and size, and to establish operating procedures that will prevent physical segregation, or other discrimination against, or overt identification of children unable to pay the full price for meals or milk. Section 104 of the Child Nutrition and WIC Reauthorization Act of 2004 added section 9(b)(4) to the NSAL (42 U.S.C. 1758(b)(4)) to require local education agencies to directly certify, without further application, any child who is a member of a household receiving Supplemental Nutrition Assistance Program (SNAP) benefits.

Need and Use of the Information: FNS will collect information to determine eligibility of children for free and reduced price meals and for free milk using form FNS-742, and assure that there is no physical segregation of, or other discrimination against, or overt identification of children unable to pay the full price for meals or milk.

Description of Respondents: Individuals or household; State, Local, or Tribal Government.

Number of Respondents: 8,303,871.

Frequency of Responses: Recordkeeping; Reporting: Other (3 times a year); Annually.

Total Burden Hours: 965,582.

Ruth Brown,
Departmental Information Collection Clearance Officer .

[FR Doc. 2013-04789 Filed 2-28-13; 8:45 am]

BILLING CODE 3410-30-P